DEPARTMENT OF COMMERCE

Foreign-Trade Zones Board

[B-24-2022]

Foreign-Trade Zone (FTZ) 61—San Juan, Puerto Rico Authorization of Production Activity Boehringer Ingelheim Animal Health Puerto Rico LLC (Pharmaceutical Products/Canine) Barceloneta, Puerto Rico

On June 7, 2022, Boehringer Ingelheim Animal Health Puerto Rico LLC submitted a notification of proposed production activity to the FTZ Board for its facility within FTZ 61, in Barceloneta, Puerto Rico.

The notification was processed in accordance with the regulations of the FTZ Board (15 CFR part 400), including notice in the Federal Register inviting public comment (87 FR 36103, June 15, 2022). On October 5, 2022, the applicant was notified of the FTZ Board's decision that no further review of the activity is warranted at this time. The production activity described in the notification was authorized, subject to the FTZ Act and the FTZ Board's regulations, including Section 400.14.

Dated: October 5, 2022.
Andrew McGilvray,
Executive Secretary.

[FR Doc. 2022-22002 Filed 10-7-22; 8:45 am]

BILLING CODE 3510-DS-P